DEPARTMENT OF HEALTH AND HUMAN SERVICES

National Institutes of Health

Proposed Collection; Comment Request; a Follow-Up Survey of National Cancer Institute Science Enrichment Program Students

SUMMARY: In compliance with the requirement of Section 3506(c)(2)(A) of the Paperwork Reduction Act of 1995, for opportunity for public comment on proposed data collection projects, the National Cancer Institute, the Nation Institutes of Health (NIH) will publish periodic summaries of proposed projects to be submitted to the Office of Management and Budget (OMB) for review and approval.

Proposed Collection: Title: A Follow-up Survey of National Cancer Institute Science Enrichment Program Students. Type of Information Collection Request: New. Need and Use of Information Collection: This survey will investigate the long-term effects of the National Cancer Institute's Science Enrichment Program. The primary objective of the survey is to determine if past NCI SEP student participants are pursuing science education and science careers. The findings will provide information regarding the effectiveness of the program and will inform decisions about continuing and expand the program. Frequency of Response: One time. Affected Public: Individuals. Type of Respondents: Young adults (18-23 years old). The annual reporting burden is as follows: Estimated Number of Respondents: 930; Estimated Number of Responses per Respondent: 1; Average Burden Hours Per Response: .2500; and Estimated Total Annual Burden Hours Requested: 233. The annualized cost to respondents is estimated at $583. There are no Capital Costs, Operating Costs and/or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Mr. Frank Jackson, Office of Special Populations Research, National Cancer Institute, National Institutes of Health, Executive Plaza South, Room 320, 6120 Executive Boulevard, Rockville, MD 20852, or call non-toll-free number (301) 496-8589, or E-mail your request, including your address to: fj12i@nih.gov

COMMENTS DUE DATE: Comments regarding this information collection are best assured of having their full effect if received on or before June 8, 2001.

Dated: April 2, 2001.
Reesa L. Nichols,
NCI Project Clearance Liaison.

[FR Doc. 01-8677 Filed 4-6-01; 8:45 am]

BILLING CODE 4140-01-M